SECURITIES AND EXCHANGE COMMISSION

[File No. 500-1]

In the Matter of Customer Sports, Inc., Leonidas Films, Inc. (n/k/a Consolidated Pictures Group, Inc.), Sportsprize Entertainment, Inc., U.S. Interactive, Inc., and USA Biomass Corp.; Order of Suspension of Trading

November 25, 2009.

It appears to the Securities and Exchange Commission that there is a lack of current and accurate information concerning the securities of Customer Sports, Inc. because it has not filed any periodic reports since the period ended April 30, 2000.

It appears to the Securities and Exchange Commission that there is a lack of current and accurate information concerning the securities of Leonidas Films, Inc. (n/k/a Consolidated Pictures Group, Inc.) because it has not filed any periodic reports since the period ended March 31, 2001.

It appears to the Securities and Exchange Commission that there is a lack of current and accurate information concerning the securities of Sportsprize Entertainment, Inc. because it has not filed any periodic reports since the period ended August 31, 2000.

It appears to the Securities and Exchange Commission that there is a lack of current and accurate information concerning the securities of U.S. Interactive, Inc. because it has not filed any periodic reports since the period ended September 30, 2000.

It appears to the Securities and Exchange Commission that there is a lack of current and accurate information concerning the securities of USA Biomass Corp. because it has not filed any periodic reports since the period ended December 31, 2002.

The Commission is of the opinion that the public interest and the protection of investors require a suspension of trading in the securities of the above-listed companies. Therefore, it is ordered, pursuant to Section 12(k) of the Securities Exchange Act of 1934, that trading in the securities of the above-listed companies is suspended for the period from 9:30 a.m. EST on November 25, 2009, through 11:59 p.m. EST on December 9, 2009.

By the Commission.
Jill M. Peterson,
Assistant Secretary.

[FR Doc. E9-28639 Filed 11-25-09; 11:15 am]

BILLING CODE 8011-01-P